DEPARTMENT OF THE INTERIOR

Fish and Wildlife Service

[FWS-R1-ES-2021-N010; FXES11130100000C4-212-FF01E00000]

Endangered and Threatened Wildlife and Plants; Initiation of 5-Year Status Reviews for 77 Species in Oregon, Washington, Idaho, and Hawaii

AGENCY: Fish and Wildlife Service, Interior.

ACTION: Notice of initiation of reviews; request for information.

SUMMARY: We, the U.S. Fish and Wildlife Service, are initiating 5-year status reviews for 77 species in Oregon, Washington, Idaho, and Hawaii under the Endangered Species Act of 1973. A 5-year status review is based on the best scientific and commercial data available at the time of the review; therefore, we are requesting submission of any new information on these species that has become available since the last reviews.

DATES: To ensure consideration in our reviews, we are requesting submission of new information no later than August 24, 2021. However, we will continue to accept new information about any species at any time.

ADDRESSES:

Submitting Information on Species:

• Columbian white-tailed deer:

U.S. Mail: State Supervisor, Attention: 5-Year Review, U.S. Fish and Wildlife Service, Oregon Fish and Wildlife Office, 2600 SE 98th Ave., Suite 100, Portland, OR 97266; or

Email: fw1ofwo@fws.gov.

• Northern Idaho ground squirrel:

U.S. Mail: State Supervisor, Attention: 5-Year Review, U.S. Fish and Wildlife Service, Idaho Fish and Wildlife Office, 1387 S. Vinnell Way, Suite 368, Boise, ID 83709; or

Email: ifwo@fws.gov.

• Any of the 75 species occurring in Hawaii:

U.S. Mail: Field Supervisor, Attention: 5-Year Review, U.S. Fish and Wildlife Service, Pacific Islands Fish and Wildlife Office, 300 Ala Moana Blvd., Room 3-122, Honolulu, HI 96850; or

Email: pifwo_admin@fws.gov.

FOR FURTHER INFORMATION CONTACT: Individuals who are hearing impaired or speech impaired may call the Federal Relay Service at 800-877-8339 for TTY assistance. For information about the various species, contact the following people.

• Columbian white-tailed deer: Jennifer Siani, Oregon Fish and Wildlife Office, 503-231-6179.

• Northern Idaho ground squirrel: Kathleen Hendricks, Idaho Fish and Wildlife Office, 208-378-5243.

• Any of the 75 species occurring in Hawaii: Megan Laut, Pacific Islands Fish and Wildlife Office, 808-792-9400.

SUPPLEMENTARY INFORMATION:

Why do we conduct 5-year status reviews?

Under the Endangered Species Act of 1973, as amended (Act; 16 U.S.C. 1531, et seq.), we maintain lists of endangered and threatened wildlife and plant species (referred to as the List) in the Code of Federal Regulations (CFR) at 50 CFR 17.11 (for wildlife) and 17.12 (for plants). Section 4(c)(2) of the Act requires us to review each listed species' status at least once every 5 years. For additional information about 5-year status reviews, refer to our factsheet at http://www.fws.gov/endangered/what-we-do/recovery-overview.html.

What information do we consider in our review?

A 5-year status review considers all new information available at the time of the review. In conducting these reviews, we consider the best scientific and commercial data that have become available since the listing determination or most recent status reviews, such as:

A. Species biology, including but not limited to population trends, distribution, abundance, demographics, and genetics;

B. Habitat conditions, including but not limited to amount, distribution, and suitability;

C. Conservation measures that have been implemented that benefit the species;

D. Threat status and trends in relation to the five listing factors (as defined in section 4(a)(1) of the Act); and

E. Other new information, data, or corrections, including but not limited to taxonomic or nomenclatural changes, identification of erroneous information contained in the List, and improved analytical methods.

Any new information will be considered during the 5-year status review and will also be useful in evaluating the ongoing recovery programs for these species.

Which species are under review?

This notice announces our active review of 77 species, including 2 mammals, 6 birds, 7 insects, and 62 plants, as listed in the table below.

Common name | Scientific name | Status | Known range of species occurrence | Final listing rule and publication date
Animals
Mammals:
Columbian white-tailed deer | Odocoileus virginianus leucurus | Threatened | Oregon, Washington. | 68 FR 43647, 10/17/2016.
Northern Idaho ground squirrel | Urocitellus brunneus | Threatened | Idaho | 65 FR 17780, 4/5/2000.
Birds:
Iiwi | Drepanis coccinea | Threatened | Hawaii | 82 FR 43873, 9/20/2017.
Molokai thrush | Myadestes lanaiensis rutha | Endangered | Hawaii | 35 FR 16047, 10/13/1970.
Small Kauai thrush | Myadestes palmeri | Endangered | Hawaii | 32 FR 4001, 3/11/1967.
Crested honeycreeper (Akohekohe) | Palmeria dolei | Endangered | Hawaii | 32 FR 4001, 3/11/1967.
Maui parrotbill | Pseudonestor xanthophrys | Endangered | Hawaii | 32 FR 4001, 3/11/1967.
Newell's Townsend's shearwater | Puffinus auricularis newelli | Threatened | Hawaii | 40 FR 44149, 9/25/1975.
Insects:
Hawaiian picture-wing fly | Drosophila differens | Endangered | Hawaii | 71 FR 26835, 5/9/2006.
Hawaiian picture-wing fly | Drosophila neoclavisetae | Endangered | Hawaii | 71 FR 26835, 5/9/2006.
Crimson Hawaiian damselfly | Megalagrion leptodemas | Endangered | Hawaii | 77 FR 57647, 9/18/2012.
Flying earwig Hawaiian damselfly | Megalagrion nesiotes | Endangered | Hawaii | 75 FR 35990, 6/24/2010.
Blackline Hawaiian damselfly | Megalagrion nigrohamatum nigrolineatum | Endangered | Hawaii | 77 FR 57647, 9/18/2012.
Oceanic Hawaiian damselfly | Megalagrion oceanicum | Endangered | Hawaii | 77 FR 57647, 9/18/2012.
Pacific Hawaiian damselfly | Megalagrion pacificum | Endangered | Hawaii | 75 FR 35990, 6/24/2010.
Plants
Flowering Plants:
No common name | Abutilon eremitopetalum | Endangered | Hawaii | 56 FR 47686, 9/20/1991.
Kooloaula | Abutilon menziesii | Endangered | Hawaii | 51 FR 34412, 9/26/1986.
Ahinahina | Argyroxiphium sandwicense ssp. macrocephalum | Threatened | Hawaii | 57 FR 20772, 5/15/1992.
Kookoolau | Bidens micrantha ssp. kalealaha | Endangered | Hawaii | 57 FR 20772, 5/15/1992.
Kookoolau | Bidens wiebkei | Endangered | Hawaii | 57 FR 46325, 10/8/1992.
Pua ala | Brighamia rockii | Endangered | Hawaii | 57 FR 46325, 10/8/1992.
Awikiwiki | Canavalia molokaiensis | Endangered | Hawaii | 57 FR 46325, 10/8/1992.
Oha wai | Clermontia oblongifolia ssp. brevipes | Endangered | Hawaii | 57 FR 46325, 10/8/1992.
Oha wai | Clermontia oblongifolia ssp. mauiensis | Endangered | Hawaii | 57 FR 20772, 5/15/1992.
Oha wai | Clermontia samuelii | Endangered | Hawaii | 64 FR 48307, 9/3/1999.
Haha | Cyanea copelandii ssp. haleakalaensis | Endangered | Hawaii | 64 FR 48307, 9/3/1999.
Haha | Cyanea dunbariae (=Cyanea dunbarii) | Endangered | Hawaii | 61 FR 53130, 10/10/1996.
Haha | Cyanea gibsonii (=Cyanea macrostegia ssp. gibsonii) | Endangered | Hawaii | 56 FR 47686, 9/20/1991.
Haha | Cyanea glabra | Endangered | Hawaii | 64 FR 48307, 9/3/1999.
Haha | Cyanea grimesiana ssp. grimesiana | Endangered | Hawaii | 61 FR 53108, 10/10/1996; 78 FR 32013, 5/28/2013.
Haha | Cyanea hamatiflora ssp. hamatiflora | Endangered | Hawaii | 64 FR 48307, 9/3/1999.
Haha | Cyanea lobata | Endangered | Hawaii | 57 FR 20772, 5/15/1992.
Haha | Cyanea magnicalyx | Endangered | Hawaii | 78 FR 32103, 5/28/2013.
Haha | Cyanea mannii | Endangered | Hawaii | 57 FR 46325, 10/8/1992.
Haha | Cyanea mceldowneyi | Endangered | Hawaii | 57 FR 20772, 5/15/1992.
Haha | Cyanea procera | Endangered | Hawaii | 57 FR 46325, 10/8/1992.
Haiwale | Cyrtandra munroi | Endangered | Hawaii | 57 FR 20772, 5/15/1992.
Naenae | Dubautia plantaginea ssp. humilis | Endangered | Hawaii | 64 FR 48307, 9/3/1999.
Nohoanu | Geranium arboreum | Endangered | Hawaii | 57 FR 20589, 5/13/1992.
Nohoanu | Geranium multiflorum | Endangered | Hawaii | 57 FR 20772, 5/15/1992.
No common name | Gouania hillebrandii | Endangered | Hawaii | 49 FR 44753, 11/19/1984.
Kokio keokeo | Hibiscus arnottianus ssp. immaculatus | Endangered | Hawaii | 57 FR 46325, 10/8/1992.
Awiwi | Kadua cookiana (=Hedyotis cookiana) | Endangered | Hawaii | 59 FR 9304, 2/25/1994.
Kopa | Kadua cordata ssp. remyi (=Hedyotis schlechtendahliana var. remyi) | Endangered | Hawaii | 64 FR 48307, 9/3/1999.
Pilo | Kadua laxiflora (=Hedyotis mannii) | Endangered | Hawaii | 57 FR 46325, 10/8/1992.
Cooke's kokio | Kokia cookei | Endangered | Hawaii | 44 FR 62470, 10/30/1979.
Kamakahala | Labordia tinifolia var. lanaiensis | Endangered | Hawaii | 64 FR 48307, 9/3/1999.
Kamakahala | Labordia triflora | Endangered | Hawaii | 64 FR 48307, 9/3/1999.
No common name | Lysimachia lydgatei | Endangered | Hawaii | 57 FR 20772, 5/15/1992.
No common name | Lysimachia maxima | Endangered | Hawaii | 61 FR 53130, 10/10/1996.
Nehe | Melanthera kamolensis (=Lipochaeta kamolensis) | Endangered | Hawaii | 57 FR 20772, 5/15/1992.
Alani | Melicope adscendens | Endangered | Hawaii | 59 FR 62346, 12/5/1994.
Alani | Melicope balloui | Endangered | Hawaii | 59 FR 62346, 12/5/1994.
Alani | Melicope knudsenii | Endangered | Hawaii | 59 FR 9304, 2/25/1994.
Alani | Melicope mucronulata | Endangered | Hawaii | 57 FR 20772, 5/15/1992.
Alani | Melicope munroi | Endangered | Hawaii | 64 FR 48307, 9/3/1999.
Alani | Melicope ovalis | Endangered | Hawaii | 59 FR 62346, 12/5/1994.
Alani | Melicope reflexa | Endangered | Hawaii | 57 FR 46325, 10/8/1992.
No common name | Neraudia sericea | Endangered | Hawaii | 59 FR 56333, 11/10/1994.
Carter's panicgrass | Panicum fauriei var. carteri | Endangered | Hawaii | 48 FR 46328, 10/12/1983.
No common name | Phyllostegia hispida | Endangered | Hawaii | 74 FR 11319, 3/17/2009.
No common name | Phyllostegia mannii | Endangered | Hawaii | 57 FR 46325, 10/8/1992.
Loulu | Pritchardia munroi | Endangered | Hawaii | 57 FR 46325, 10/8/1992.
Maui remya | Remya mauiensis | Endangered | Hawaii | 56 FR 1450, 1/14/1991.
No common name | Sanicula purpurea | Endangered | Hawaii | 61 FR 53108, 10/10/1996.
Lanai sandalwood (=Iliahi) | Santalum haleakalae var. lanaiense (=Santalum freycinetianum var. lanaiense) | Endangered | Hawaii | 51 FR 3182, 1/24/1986; 78 FR 32013, 5/28/2013.
No common name | Schiedea haleakalensis | Endangered | Hawaii | 57 FR 20772, 5/15/1992.
No common name | Schiedea hookeri | Endangered | Hawaii | 61 FR 53108, 10/10/1996.
No common name | Schiedea lydgatei | Endangered | Hawaii | 57 FR 46325, 10/8/1992.
No common name | Schiedea sarmentosa | Endangered | Hawaii | 61 FR 53130, 10/10/1996.
No common name | Silene alexandri | Endangered | Hawaii | 57 FR 46325, 10/8/1992.
No common name | Stenogyne bifida | Endangered | Hawaii | 57 FR 46325, 10/8/1992.
Pamakani | Tetramolopium capillare | Endangered | Hawaii | 59 FR 49860, 9/30/1994.
No common name | Tetramolopium remyi | Endangered | Hawaii | 56 FR 47686, 9/20/1991.
No common name | Tetramolopium rockii | Threatened | Hawaii | 57 FR 46325, 10/8/1992.
No common name | Viola lanaiensis | Endangered | Hawaii | 56 FR 47686, 9/20/1991.
Ferns:
Ihiihi | Marsilea villosa Marsilea villosa | Endangered | Hawaii | 57 FR 27863, 6/22/1992.

Request for New Information

To ensure that a 5-year status review is complete and based on the best available scientific and commercial information, we request new information from all sources. See What Information Do We Consider in Our Review? for specific criteria. If you submit information, please support it with documentation such as maps, references, methods used to gather and analyze the data, and/or copies of any pertinent publications, reports, or letters by knowledgeable sources.

If you wish to provide information for any species listed in the table, please submit your comments and materials to the appropriate contact in ADDRESSES.

Public Availability of Comments

Before including your address, phone number, email address, or other personal identifying information in your comment, you should be aware that your entire comment—including your personal identifying information—may be made publicly available at any time. While you can ask us in your comment to withhold your personal identifying information from public review, we cannot guarantee that we will be able to do so.

Completed and Active Reviews

A list of all completed and currently active 5-year status reviews addressing species for which our Regional Office has lead responsibility is available at http://www.fws.gov/pacific/ecoservices/endangered/recovery/5year.html.

Authority

This document is published under the authority of the Endangered Species Act of 1973, as amended (16 U.S.C. 1531 et seq.).

Hugh R. Morrison,
Acting Regional Director, U.S. Fish and Wildlife Service.

[FR Doc. 2021-13534 Filed 6-24-21; 8:45 am]

BILLING CODE 4333-15-P